DEPARTMENT OF JUSTICE

Antitrust Division

Notice Pursuant to the National Cooperative Research and Production Act of 1993—National Shipbuilding Research Program

Notice is hereby given that, on May 19, 2010, pursuant to Section 6(a) of the National Cooperative Research and Production Act of 1993, 15 U.S.C. 4301 et seq. (“the Act”), National Shipbuilding Research Program (“NSRP”) has filed written notifications simultaneously with the Attorney General and the Federal Trade Commission disclosing changes in its membership status. The notifications were filed for the purpose of extending the Act's provisions limiting the recovery of antitrust plaintiffs to actual damages under specified circumstances. Specifically, Bender Shipbuilding & Repair Co., Inc., Mobile, AL, and Manitowoc Marine Group, Manitowoc, WI, have withdrawn as parties from this venture. Additionally, Marinette Marine Corporation, Marinette, WI, has been added as a party to this venture.

No other changes have been made in either the membership or planned activity of the group research project. Membership in this group remains open, and NSRP intends to file additional written notifications disclosing all changes in membership.

On March 13, 1998, NSRP filed its original notification pursuant to Section 6(a) of the Act. The Department of Justice published a notice in the Federal Register pursuant to Section 6(b) of the Act on January 29, 1999 (64 FR 4708).

The last notification was filed with the Department on April 16, 2009. A notice was published in the Federal Register pursuant to Section 6(b) of the Act on May 26, 2009 (74 FR 25036).

Patricia A. Brink,
Deputy Director of Operations, Antitrust Division.

[FR Doc. 2010-14862 Filed 6-18-10; 8:45 am]

BILLING CODE 4410-11-M\